ENVIRONMENTAL PROTECTION AGENCY

[ER-FRL-6674-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 7, 2006 (71 FR 17845).

Draft EISs

EIS No. 20050541, ERP No. D-COE-G36156-AR, Bayou Meto Basin, Arkansas General Reevaluation Project, Address Waterfowl Management, Water Supply and Flood Control Strategies, Located in Portions of Lonoke, Prairie, Jefferson, Arkansas and Pulaski, AR.

Summary: EPA expressed environmental concerns about wetland, water quality and groundwater impacts, and requested additional information on avoidance and mitigation of the above issues.

Rating EC2.

EIS No. 20050546, ERP No. D-BLM-L67046-ID, Smoky Canyon Mine Panels F & G, Proposed Mine Expansion, Caribou County, ID.

Summary: EPA has environmental objections to predicted exceedances of surface water quality standards from the proposed mine expansion, and recommends that additional modifications be made to the preferred alternative to remedy potential impacts and that further analysis of uncertainties be provided.

Rating EO2.

EIS No. 20060026, ERP No. D-AFS-L65501-AK, Whistle Stop Project, Provide Access to Backcountry Recreation Area on National Forest, System (NFS) Lands, on the Kenai Peninsula between Portage and Moose Pass, Chugach National Forest, Kenai Peninsula Borough, AK.

Summary: EPA does not object to the proposed project.

Rating LO.

Final EISs

EIS No. 20060013, ERP No. F-COE-D39028-00, TIERED-FEIS Baltimore Harbor and Channels Dredged Material Management Plan (DMMP), To Analyze Dredged Material Placement, Port of Baltimore, Chesapeake Bay, MD, PA, DE, WV, DC, and NY.

Summary: EPA's previous concerns have been resolved; therefore, EPA does not object to the proposed action.

EIS No. 20060060, ERP No. F-HUD-C85046-NY, Ashburton Avenue Master Plan and Urban Renewal Plan/Mulford Hope VI Revitalization Plan, Development, Implementation, Yonkers City, Westchester County, NY.

Summary: EPA expressed environmental concerns about General Conformity and the need to provide analysis of PM2.5 impacts, and the inclusion of emissions from demolition, excavation and construction in the analysis.

EIS No. 20060061, ERP No. F-HUD-K80045-CA, Stillwater Business Park, New and Revised Information, Development of Business Park, Annexation AN1-01, Shastec Redevelopment Project Area, Airport Land Use Plan Amendment, Pre-Zone, General Plan Amendment GPA-2-01, Rezone RZ-1-01, Funding and U.S. Army COE 404 Permit, City of Redding, Shasta County, CA.

Summary: EPA continues to have environmental concerns about potential cumulative impacts to the Stillwater Plains conservation area and requested additional mitigation for these impacts.

EIS No. 20060051, ERP No. FS-AFS-J65277-CO, Sheep Flats Diversity Unit, Timber Sales and Related Road Construction, Additional Information Concerning Management Indicator Species and Sensitive Species, Grand Mesa Uncompahgre and Gunnison National Forests, Grand Valley Ranger District, Mesa County, CO.

Summary: No formal comment letter was sent to the preparing agency.

EIS No. 20060058, ERP No. FS-AFS-J65327-CO, Baylor Park Blowdown Project, New Information, Salvage and Treat Down and Damaged Timber, To Reduce Impact of Spruce Beetles, Implementation, White River National Forest, Sopris and Rifle Ranger District, Garfield, Mesa and Pitkin Counties, CO.

Summary: No formal comment letter was sent to the preparing agency.

Dated: April 11, 2006.
Robert W. Hargrove,
Director, NEPA Compliance Division, Office of Federal Activities.

[FR Doc. E6-5589 Filed 4-13-06; 8:45 am]

BILLING CODE 6560-50-P